DEPARTMENT OF THE INTERIOR

Fish and Wildlife Service

Denial of Permit for Marine Mammals

On December 17, 1999, a notice was published in the Federal Register, Vol. 64, No. 242, Page 70723, that an application had been filed with the Fish and Wildlife Service by Leviathan Legacy, Inc., for a permit (PRT-020346) for a permit to conduct scientific research with West Indian Manatees (Trichechus manatus).

Notice is hereby given that on April 18, 2000, as authorized by the provisions of the Marine Mammal Protection Act of 1972, as amended (16 U.S.C. 1361 et seq.) the Fish and Wildlife Service denied the requested permit.

Documents and other information submitted for these applications are available for review by any party who submits a written request to the U.S. Fish and Wildlife Service, Office of Management Authority, 4401 North Fairfax Drive, Rm 700, Arlington, Virginia 22203, phone (703) 358-2104 or Fax (703) 358-2281.

Dated: April 25, 2000.
Kristen Nelson,
Chief, Branch of Permits, Office of Management Authority.

[FR Doc. 00-10642 Filed 4-27-00; 8:45 am]

BILLING CODE 4310-55-U